DEPARTMENT OF LABOR

Employment and Training Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed consolidation and renewal of Job Corps applicant forms. A copy of the proposed information collection request (ICR) can be obtained by contacting the office listed below in the ADDRESSES section of this notice.

DATES: Written comments must be submitted to the office listed in the Addresses section below on or before December 8, 2003.

ADDRESSES: Gayle Cody, Office of Job Corps, 200 Constitution Avenue NW., Room N-4507, Washington, DC 20210. E-Mail Internet address: cody.gayle@dol.gov; Telephone number: (202) 693-3105. (This is not a toll-free number); Fax number: (202) 693-3113 (This is not a toll-free number).

SUPPLEMENTARY INFORMATION:

I. Background

The Job Corps program authorized by the Workforce Investment Act (WIA) of 1998, is designed to serve low-income young women and men, 16 through 24, who are in need of additional vocational, educational and social skills training, and other support services in order to gain meaningful employment, return to school or enter the Armed Forces. Job Corps is operated by the Department of Labor through a nationwide network of 118 Job Corps centers. The program is primarily a residential program operating 24 hours per day, 7 days per week, with non-resident enrollees limited by legislation to 20 percent of national enrollment. These centers presently accommodate more than 40,000 students. To ensure that the centers are filled with youth who are low-income, as well as capable of and committed to doing the work necessary to achieve the benefits of Job Corps, certain eligibility requirements have been established by the legislation.

The purpose of this collection is to gather information from applicants to determine their eligibility for Job Corps. These forms are critical to the screening process. They are the initial forms completed by the Job Corps admissions counselors for each applicant.

The ETA 652, Job Corps Data Sheet, is used to obtain information for screening and enrollment purposes to determine eligibility for the Job Corps program in accordance with the requirements of the Workforce Investment Act (§ 145 Recruitment, Screening, Selection and Assignment of Enrollees). It is prepared electronically by an admissions counselor for each applicant. It also provides demographic characteristics for program reporting purposes. Data for the forms are collected by interview. The information collected determines eligibility in regard to age, legal U.S. residency, family income/welfare status, school status, behavioral problems (if any), parental consent, and child care needs of each applicant.

The ETA 655, Statement from Court or Other Agency, and ETA 655A, Statement from Institution, collect essential information for determining an applicant's eligibility. They are used to document past behavior problems for all applicants, as well as provide a basis for projecting future behavior. If this information were not obtained, serious problems could result from enrolling potentially harmful or disruptive individuals in Job Corps, which is a residential program. This could have legal implications for the Federal government.

The ETA 682, Child Care Certification, is used to certify an applicant's arrangements for care of a dependent child(ren) while the applicant is in Job Corps.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Data previously collected on the following Job Corps application forms are now being collected from data input screens that electronically transmit data to a Center Information System (CIS). Job Corps has continued to collect application data because it was necessary to the application process that youth receiving training on Job Corps centers be eligible for the benefits provided.

Job Corps has now implemented electronic collection of data during the Job Corps application process and the changes required by the WIA have been incorporated in the collection. We request that the following data used in the application process be extended under OMB 1205-0025:

ETA 652, Job Corps Data Sheet,

ETA 655, Statement from Court or Other Agency, and ETA 682, Child Care Certification.

The deletion of these forms and electronic collection of the information will result in a reduction in paperwork burden hours and a streamlined electronic application.

Type of Review: Extension.

Agency: Employment and Training Administration.

Title: Application Data Collection.

OMB Number: 1205-0025.

Agency Numbers: ETA 652, ETA 655, and ETA 682.

Recordkeeping: The applicant is not required to retain records; admissions counselors or contractor main offices are required to retain records of applicants who enroll in the program for 3 years from the date of application.

Affected Public: Individuals; business or other for-profit/not-for-profit institutions; State, Local or Tribal Government.

Title | Total respondents | Frequency | Average time per respondent | Burden hours
Job Corps Application: ETA 652 | 102,833 | 1/person | 10 minutes | 17,139
Statement from Court or Other Agency: ETA 655 | 102,833 | 1/person | 1 minute | 1,714
Child Care Certification: ETA 682 | 4,886 | On occasion | 30 seconds | 41
Total Burden Hours |  |  |  | 18,894

Total Burden Cost (capital/startup): When the electronic system was initially piloted and implemented in 1996, the start-up costs totaled $2,680,000, including $2,000,000 for 925 computer workstations, $480,000 for training Job Corps admissions counselors and center staff and, in 1997, $200,000 for replacements and memory upgrades. These were one-time-only costs.

Total Burden Cost (operating/maintaining): Operating and maintenance services associated with this data collection are contracted yearly by the Federal government with outreach and admissions contractors, according to designated recruiting areas. This is one of the many functions the contractors perform for which precise costs cannot be identified. Based on past experience of recruitment contractors, however, the annual cost for contractor staff and related costs is estimated to be about $821,399. An additional cost of $29,191 is added for the value of applicant time, making a total cost of $850,590. For the approximately 70 percent of Job Corps applicants who have never worked, no value is determined. For the remaining 30 percent of applicants who have been in the work force previously for any length of time, whether full-time or less, the current minimum wage of $5.15 is used to determine the value of applicant time (ETA 652: $26,480, ETA 655: $2,648, and ETA 682: $63).

Comments submitted in response to this comment request will be summarized and/or included in the request for Office of Management and Budget approval of the information collection request; they will also become a matter of public record.

David Dye,
Deputy Assistant Secretary, Employment and Training Administration.

[FR Doc. 03-25376 Filed 10-6-03; 8:45 am]

BILLING CODE 4510-23-M